ENVIRONMENTAL PROTECTION AGENCY

[FRL-9171-7]

National Advisory Council for Environmental Policy and Technology

AGENCY: Environmental Protection Agency (EPA).

ACTION: Notice of meeting.

SUMMARY: Under the Federal Advisory Committee Act, Public Law 92463, EPA gives notice of a public teleconference of the National Advisory Council for Environmental Policy and Technology (NACEPT). NACEPT provides advice to the EPA Administrator on a broad range of environmental policy, technology, and management issues. NACEPT represents diverse interests from academia, industry, non-governmental organizations, and local, State, and tribal governments. The Council will be discussing comments it is developing on the draft EPA FY 2011-2015 Strategic Plan. The Council will also be discussing the workplans it is developing to respond to EPA's request for advice on workforce issues the Agency is facing and how EPA can best address the needs of vulnerable populations. A copy of the agenda for the meeting will be posted at http://www.epa.gov/ocem/nacept/cal-nacept.htm.

DATES: NACEPT will hold a public teleconference on Thursday, July 22, 2010 from 1 p.m.-4 p.m. Eastern Daylight Time.

ADDRESSES: The meeting will be held in the U.S. EPA East Building, 1201 Constitution Ave., NW., Room 1132, Washington, DC 20004.

FOR FURTHER INFORMATION CONTACT: Nancy New, Acting Designated Federal Officer, new.nancy@epa.gov, (202) 564-0464, U.S. EPA, Office of Cooperative Environmental Management (1601M), 1200 Pennsylvania Avenue, NW., Washington, DC 20460.

SUPPLEMENTARY INFORMATION: Requests to make oral comments or to provide written comments to NACEPT should be sent to Stephanie McCoy at (202) 564-2294 or mccoy.stephanie@epa.gov by Monday, July 19, 2010. The public is welcome to attend all portions of the meeting, but seating is limited and is allocated on a first-come, first-serve basis. Members of the public wishing to gain access to the conference room on the day of the meeting must contact Stephanie McCoy at (202) 564-2294 or mccoy.stephanie@epa.gov by July 19, 2010.

MEETING ACCESS: For information on access or services for individuals with disabilities, please contact Stephanie McCoy at (202) 564-2294 or mccoy.stephanie@epa.gov. To request accommodation of a disability, please contact Stephanie McCoy, preferably at least 10 days prior to the meeting, to give EPA as much time as possible to process your request.

Dated: June 28, 2010.
Nancy New,
Acting Designated Federal Officer.

[FR Doc. 2010-16328 Filed 7-2-10; 8:45 am]

BILLING CODE 6560-50-P